DEPARTMENT OF AGRICULTURE

Forest Service

Rogue and Umpqua Resource Advisory Committee

AGENCY: Forest Service, USDA.

ACTION: Notice of meeting.

SUMMARY: The Rogue and Umpqua Resource Advisory Committee (RAC) will meet in Roseburg, Oregon. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information, including the meeting agenda and the meeting summary/minutes can be found at the following Web site: http://tinyurl.com/qjkrxps.

DATES: The meeting will be held September 7 and 8, at 9:00 a.m. to 4:00 p.m.

All RAC meetings are subject to cancellation. For status of meeting prior to attendance, please contact the person listed under FOR FURTHER INFORMATION CONTACT.

ADDRESSES: The meeting will be held at Umpqua National Forest Supervisor's Office, 2900 NW Stewart Parkway, Roseburg, Oregon.

Written comments may be submitted as described under SUPPLEMENTARY INFORMATION. All comments, including names and addresses when provided, are placed in the record and are available for public inspection and copying. The public may inspect comments received at Umpqua National Forest Supervisor's Office.

FOR FURTHER INFORMATION CONTACT: Cheryl Caplan, RAC Coordinator, by phone at 541-957-3270 or via email at ccaplan@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review projects proposals;

2. Make project recommendations for Title II funding; and

3. Review the status of projects previously funded by Title II monies.

The meeting is open to the public. The agenda will include time for people to make oral statements of three minutes or less. Individuals wishing to make an oral statement should request in writing by September 6, 2016, to be scheduled on the agenda. Anyone who would like to bring related matters to the attention of the committee may file written statements with the committee staff before or after the meeting. Written comments and requests for time to make oral comments must be sent to Cheryl Caplan, RAC Coordinator, Umpqua National Forest Supervisor's Office, 2900 NW Stewart Parkway, Roseburg, Oregon 97471; by email to ccaplan@fs.fed.us, or via facsimile to 541-957-3495.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: August 3, 2016.
Alice B. Carlton,
Umpqua Forest Supervisor.

[FR Doc. 2016-19355 Filed 8-22-16; 8:45 am]

BILLING CODE 3411-15-P